NATIONAL SCIENCE FOUNDATION

Request for Recommendations for Membership on Directorate and Office Advisory Committees

ACTION: Notice.

SUMMARY: The National Science Foundation (NSF) requests recommendations for membership on its scientific and technical Federal advisory committees. Recommendations should consist of the name of the submitting individual, the organization or the affiliation providing the member nomination, the name of the recommended individual, the recommended individual's curriculum vita, an expression of the individual's interest in serving, and the following recommended individual's contact information: Employment address, telephone number, fax number, and email address. Self-recommendations are accepted. If you would like to make a membership recommendation for any of the NSF scientific and technical Federal advisory committees, please send your recommendation to the appropriate committee contact person listed in the chart below.

ADDRESSES: The mailing address for the National Science Foundation is 2415 Eisenhower Avenue, Alexandria, VA 22314.

Web links to individual committee information may be found on the NSF website: NSF Advisory Committees.

SUPPLEMENTARY INFORMATION: Each Directorate and Office has an external advisory committee that typically meets twice a year to review and provide advice on program management; discuss current issues; and review and provide advice on the impact of policies, programs, and activities in the disciplines and fields encompassed by the Directorate or Office. In addition to Directorate and Office advisory committees, NSF has several committees that provide advice and recommendations on specific topics including: Astronomy and astrophysics; environmental research and education; equal opportunities in science and engineering; cyberinfrastructure; international science and engineering; and business and operations.

A primary consideration when formulating committee membership is recognized knowledge, expertise, or demonstrated ability.¹ Other factors that may be considered are balance among diverse institutions, regions, and groups underrepresented in science, technology, engineering, and mathematics. Committee members serve for varying term lengths, depending on the nature of the individual committee. Although we welcome the recommendations we receive, we regret that NSF will not be able to acknowledge or respond positively to each person who contacts NSF or has been recommended. NSF intends to publish a similar notice to this on an annual basis. NSF will keep recommendations active for 12 months from the date of receipt.

¹ Federally registered lobbyists are not eligible for appointment to these Federal advisory committees.

The chart below is a listing of the committees seeking recommendations for membership. Recommendations should be sent to the contact person identified below. The chart contains web addresses where additional information about individual committees is available.

Advisory committee | Contact person
Advisory Committee for Biological Sciences, https://www.nsf.gov/bio/advisory.jsp | Brent Miller, Directorate for Biological Sciences; phone: (703) 292-8400; e-mail: bmiller@nsf.gov; fax: (703) 292-2988.
Advisory Committee for Computer and Information Science and Engineering, https://www.nsf.gov/cise/advisory.jsp | Brenda Williams, Directorate for Computer and Information Science and Engineering; phone: (703) 292-4554; e-mail: bwilliam@nsf.gov; fax: (703) 292-9454.
Advisory Committee for Cyberinfrastructure, https://www.nsf.gov/cise/aci/advisory.jsp | Carl Anderson, Division of Advanced Cyberinfrastructure; phone: (703) 292-4545; e-mail: cnanders@nsf.gov; fax: (703) 292-9060.
Advisory Committee for Education and Human Resources, https://www.nsf.gov/ehr/advisory.jsp | Nafeesa Owens, Directorate for Education and Human Resources; phone: (703) 292-8600; e-mail: nowens@nsf.gov; fax: (703) 292-9179.
Advisory Committee for Engineering, https://www.nsf.gov/eng/advisory.jsp | Cecile Gonzalez, Directorate for Engineering; phone: (703) 292-8300; e-mail: cjgonzal@nsf.gov; fax: (703) 292-9467.
Advisory Committee for Geosciences, https://www.nsf.gov/geo/advisory.jsp | Melissa Lane, Directorate for Geosciences: phone: (703) 292-8500; e-mail: mlane@nsf.gov; fax: (703) 292-9042.
Advisory Committee for International Science and Engineering, https://www.nsf.gov/od/oise/advisory.jsp | Christopher Street, Office of International Science and Engineering, phone: (703) 292-8568; e-mail: ac-ise@nsf.gov fax: (703) 292-9481.
Advisory Committee for Mathematical and Physical Sciences, https://www.nsf.gov/mps/advisory.jsp | Angela Harris, Directorate for Mathematical and Physical Sciences; phone: (703) 292-8800; e-mail: amharris@nsf.gov; fax: (703) 292-9151.
Advisory Committee for Social, Behavioral & Economic Sciences, https://www.nsf.gov/sbe/advisory.jsp | Deborah Olster, Directorate for Social, Behavioral & Economic Sciences; phone: (703) 292-8700; E-Mail: dholster@nsf.gov; fax: (703) 292-9083.
Advisory Committee for Polar Programs, https://www.nsf.gov/geo/opp/advisory.jsp | Andrew Backe, Office of Polar Programs; phone: (703) 292-2454; e-mail: abacke@nsf.gov; fax: (703) 292-9081.
Committee on Equal Opportunities in Science and Engineering, https://www.nsf.gov/od/oia/activities/ceose/ | Bernice Anderson, Office of Integrative Activities; phone: (703) 292-8040; e-mail: banderso@nsf.gov; fax: (703) 292-9040.
Advisory Committee for Business and Operations, https://www.nsf.gov/oirm/bocomm/ | Jeffrey Rich, Office of Information and Resource Management; phone: (703) 292-8100; e-mail: jrich@nsf.gov; fax: (703) 292-9369.
Advisory Committee for Environmental Research and Education, https://www.nsf.gov/ere/ereweb/advisory.jsp | Leah Nichols, Office of Integrative Activities; phone: (703) 292-8040; e-mail: lenichol@nsf.gov; fax: (703) 292-9040.
Astronomy and Astrophysics Advisory Committee, https://www.nsf.gov/mps/ast/aaac.jsp | Elizabeth Pentecost, Division of Astronomical Sciences; phone: (703) 292-4907; e-mail: epenteco@nsf.gov; fax: (703) 292-9452.
STEM Education Advisory Panel, https://nsf.gov/ehr/STEMEdAdvisory.jsp | Nafeesa Owens, Directorate for Education and Human Resources; Please visit website to submit recommendations.

Dated: March 10, 2020.
Crystal Robinson,
Committee Management Officer.

[FR Doc. 2020-05129 Filed 3-12-20; 8:45 am]

BILLING CODE 7555-01-P